SURFACE TRANSPORTATION BOARD

[Docket No. FD 36176]

HGS-FCR, LLC—Acquisition Exemption—CSX Transportation, Inc.

HGS-FCR, LLC (HGS-FCR), a noncarrier, has filed a verified notice of exemption under 49 CFR 1150.31 to acquire from CSX Transportation, Inc. (CSXT) approximately 55 miles of rail line in Atlanta, Ga. (the Lines), extending: (1) From milepost ANO 855.06, V.S. 3 + 30, at Fulco Junction, westerly to milepost ANO 858.72, V.S. 196 + 31; (2) from milepost ANO 858.72, V.S. 196 + 31 northeasterly to milepost ANO 860.75, V.S. 304 + 70, at the northeast end of the line; and (3) from V.S. 196 + 31 = V.S. 0 + 00 southwesterly to V.S. 208 + 94 at the southwest end of the line through the Fulco Industrial Park, including the track in the Fulco Yard and the appurtenant sidings, and industrial tracks.¹

¹ By decision served April 13, 2018, the Board held this and four related exemption proceedings in abeyance pending the filing of supplemental information in HGS Railway Holdings, Inc.—Continuance in Control Exemption—HGS-FCR, LLC & HGS-ATN, LLC, Docket No. FD 36180. On April 23, 2018, HGS Railway Holdings, Inc. filed a reply and revised notice of exemption in that docket. The Board is serving and publishing in the Federal Register today notices of the exemptions in all five dockets, thus removing them from abeyance.

According to HGS-FCR, it is acquiring the Lines from CSXT for continued rail operations. HGS-FCR states that it is in the process of entering into a Purchase and Sale Agreement with CSXT. HGS-FCR also states that it will lease the Lines to Fulton County Railway, LLC, which will be the operator of the property. See Fulton Cty Ry. Verified Notice of Exemption, Mar. 22, 2018, Fulton Cty. Ry.—Lease & Operation Exemption—HGS-FCR, LLC, Docket No. FD 36174.

HGS-FCR certifies that, as a result of the proposed transaction, its projected annual revenues will not result in its becoming a Class I or Class II rail carrier and will not exceed $5 million. HGS-FCR also certifies that the proposed transaction does not involve any interchange commitments.

The proposed transaction may be consummated on or after June 6, 2018, the effective date of this exemption. If the verified notice contains false or misleading information, the exemption is void ab initio. Petitions to revoke the exemption under 49 U.S.C. 10502(d) may be filed at any time. The filing of a petition to revoke will not automatically stay the effectiveness of the exemption. Petitions to stay must be filed by May 30, 2018 (at least seven days before the exemption becomes effective).

An original and 10 copies of all pleadings, referring to Docket No. FD 36176, must be filed with the Surface Transportation Board, 395 E Street SW, Washington, DC 20423-0001. In addition, a copy of each pleading must be served on applicant's representative, Karl Morell, Karl Morell & Associates, 440 1st Street NW, Suite 440, Washington, DC 20001.

According to HGS-FCR, this action is categorically excluded from environmental reporting under 49 CFR 1105.6(c).

Board decisions and notices are available on our website at WWW.STB.GOV.

Decided: May 18, 2018.
By the Board, Scott M. Zimmerman, Acting Director, Office of Proceedings.
Jeffrey Herzig,
Clearance Clerk.

[FR Doc. 2018-11053 Filed 5-22-18; 8:45 am]

BILLING CODE 4915-01-P